FEDERAL COMMUNICATIONS COMMISSION

[Report No. 2427]

Petitions for Reconsideration and Clarification of Action in Rulemaking Proceedings

July 24, 2000.

Petitions for Reconsideration and Clarification have been filed in the Commission's rulemaking proceedings listed in the Public Notice and published pursuant to 47 CFR Section 1.429(e). The full text of these documents are available for viewing and copying in Room CY-A257, 445 12th Street, S.W., Washington, D.C. or may be purchased from the Commission's copy contractor, ITS, Inc. (202) 857-3800. Oppositions to these petitions must be filed by August 15, 2000. See Section 1.4(b)(1) of the Commission's rules (47 CFR 1.4(b)(1)). Replies to an opposition must be filed within 10 days after the time for filing oppositions has expired.

Subject: Amendment of Section 73.202(b), Table of Allotments, FM Broadcast Stations (Anniston and Ashland, Alabama, College Park, Covington, and Milledgeville, Georgia) (MM Docket No. 98-112, RM-9027, RM-9268, RM-9384).

Number of Petitions Filed: 1.

Subject: Amendment of Section 73.202(b), Table of Allotments, FM Broadcast Stations (Drummond and Victor, Montana) (MM Docket No. 99-134, RM-9543, RM-9572).

Number of Petitions Filed: 1.

Subject: Numbering Resource Optimization (CC Docket No. 99-200).

Number of Petitions Filed: 21.

Subject: Amendment of Section 73.202(b), Table of Allotments FM Broadcast Stations (Winslow, Camp Verde, Mayer and Sun City West, Arizona) (MM Docket No. 99-246, RM-9593, RM-9770).

Number of Petitions Filed: 1.

Subject: Establishment of an Improved Model for Predicting the Broadcast Television Field Strength Received at Individual Locations (ET Docket No. 00-11).

Number of Petitions Filed: 2.

Federal Communications Commission.
Magalie Roman Salas,
Secretary.

[FR Doc. 00-19228 Filed 7-28-00; 8:45 am]

BILLING CODE 6712-01-M